DEPARTMENT OF TRANSPORTATION

Office of the Secretary

Aviation Proceedings, Agreements Filed During Week Ending November 2, 2001

The following Agreements were filed with the Department of Transportation under provisions of 49 U.S.C. sections 412 and 414. Answers may be filed within 21 days after the filing of the applications.

Docket Number: OST-2001-10915.

Date Filed: October 29 2001.

Parties: Members of the International Air Transport Association.

Subject: PTC23 ME-TC3 0125 dated 30 October 2001, Mail Vote 171—Resolution 010e, TC23 Middle East—South East Asia, Special Passenger Amending Resolution, Intended effective date: December 1, 2001.

Docket Number: OST-2001-10924.

Date Filed: October 30, 2001.

Parties: Members of the International Air Transport Association.

Subject: PTC23 EUR-SEA 0120 dated October 5, 2001, PTC23 EUR-SEA 0124 dated November 2, 2001, Mail Vote 166—TC23/TC123 Europe-South East Asia, Expedited Resolutions, Intended effective date: November 15, 2001.

Docket Number: OST-2001-10926.

Date Filed: October 30, 2001.

Parties: Members of the International Air Transport Association.

Subject: PTC23 EUR-SEA 0125 dated November 2, 2001, Mail Vote 167—TC23/TC123 Europe-South East Asia, Expedited Resolutions, Intended effective date: January 1, 2002.

Docket Number: OST-2001-10956.

Date Filed: November 2, 2001.

Parties: Members of the International Air Transport Association.

Subject: PTC12 NMS-ME 0001 dated November 6, 2001, Mail Vote 176—Resolution 010j, TC12 North/Mid/South Atlantic-Middle East, Special Passenger Amending Resolution, Intended Effective Date: November 15, 2001.

Andrea M. Jenkins,
Federal Register Liaison.

[FR Doc. 01-28914 Filed 11-19-01; 8:45 am]

BILLING CODE 4910-62-P